DEPARTMENT OF HOUSING AND URBAN DEVELOPMENT

[Docket No. FR-6210-N-02]

Notice of Regulatory Waiver Requests Granted for the Second Quarter of Calendar Year 2020

AGENCY: Office of the General Counsel, HUD.

ACTION: Notice.

SUMMARY: The Department of Housing and Urban Development Reform Act of 1989 (the HUD Reform Act) requires HUD to publish quarterly Federal Register notices of all regulatory waivers that HUD has approved. Each notice covers the quarterly period since the previous Federal Register notice. The purpose of this notice is to comply with the requirements of the HUD Reform Act. This notice contains a list of regulatory waivers granted by HUD during the period beginning on April 1, 2020 and ending on June 30, 2020.

FOR FURTHER INFORMATION CONTACT: For general information about this notice, contact Aaron Santa Anna, Associate General Counsel for Legislation and Regulations, Department of Housing and Urban Development, 451 7th Street SW, Room 10282, Washington, DC 20410-0500, telephone 202-708-5300 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the second quarter of calendar year 2020.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from April 1, 2020 through June 30, 2020. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the second quarter of calendar year 2020) before the next report is published (the third quarter of calendar year 2020), HUD will include any additional waivers granted for the second quarter in the next report.

Accordingly, information about approved waiver requests pertaining to HUD regulations is provided in the Appendix that follows this notice.

The Principal Deputy General Counsel, Michael B. Williams, having reviewed and approved this document, is delegating the authority to electronically sign this document to submitter, Aaron Santa Anna, who is the Federal Register Liaison for HUD, for purposes of publication in the Federal Register.

Aaron Santa Anna,
Associate General Counsel for Legislation & Regulations.

Appendix

Listing of Waivers of Regulatory Requirements Granted by Offices of the Department of Housing and Urban Development April 1, 2020 Through June 30, 2020

Note to Reader: More information about the granting of these waivers, including a copy of the waiver request and approval, may be obtained by contacting the person whose name is listed as the contact person directly after each set of regulatory waivers granted.

The regulatory waivers granted appear in the following order:

I. Regulatory Waivers Granted by the Office of Community Planning and Development

II. Regulatory Waivers Granted by the Government National Mortgage Association

III. Regulatory Waivers Granted by the Office of Housing

I. Regulatory Waivers Granted by the Office of Community Planning and Development

For further information about the following regulatory waivers, please see the name of the contact person that immediately follows the description of the waiver granted.

• Regulation: 24 CFR 91.105(c)(2) and (k), 24 CFR 91.115(c)(2) and (i), and, 24 CFR 91.235(e) and 24 CFR 91.401.

Project/Activity: Citizen participation reasonable notice and opportunity to comment.

Nature of Requirement: The regulations set forth citizen participation requirements for participating jurisdictions. For substantial amendments to the consolidated plan, a participating jurisdiction to follow its citizen participation plan, which must state how reasonable notice and opportunity for public comment will be given.

Granted By: John Gibbs, Acting Assistant Secretary for Community Planning and Development.

Date Granted: April 10, 2020.

Reason Waived: The waiver permits participating jurisdictions amending their consolidated plans as a result of the COVID-19 pandemic to reduce the comment period to 5 days. Given the unprecedented economic disruptions caused by the COVID-19 pandemic, participating jurisdictions may need to expeditiously reprogram HOME funds to activities that more directly meet their immediate housing needs. Requiring these participating jurisdictions to complete the required public comment period would cause undue delays in the face of urgent and growing need.

Applicability: The waiver is in effect for any necessary substantial amendments to Fiscal Year 2020 and earlier consolidated plans or action plans and to any approved Annual Action Plan being amended. The waiver is available to all HOME participating jurisdictions.

Contact: Virginia Sardone, Director, Office of Affordable Housing Programs, Office of Community Planning and Development, Department of Housing and Urban Development, 451 Seventh Street SW, Room 7160, Washington, DC 20410, telephone (202) 708-2684.

• Regulation: 24 CFR 91.105(c)(2) and (k), 24 CFR 91.115(c)(2) and (i), and, 24 CFR 91.235(e) and 24 CFR 91.401.

Project/Activity: Citizen participation reasonable notice and opportunity to comment.

Nature of Requirement: The regulations set forth citizen participation requirements for participating jurisdictions. For substantial amendments to the consolidated plan, a participating jurisdiction to follow its citizen participation plan, which must state how reasonable notice and opportunity for public comment will be given.

Granted By: John Gibbs, Acting Assistant Secretary for Community Planning and Development.

Date Granted: April 10, 2020.

Reason Waived: The waiver permits participating jurisdictions amending their consolidated plans as a result of the COVID-19 pandemic to reduce the comment period to 5 days. Given the unprecedented economic disruptions caused by the COVID-19 pandemic, requiring t participating jurisdictions to complete the required public comment period would cause undue delays in commencing tenant-based rental assistance programs to address an urgent and growing need.

Applicability: The waiver applies to any approved Annual Action Plan being amended to reprogram funds to TBRA to address housing needs related to the COVID-19 pandemic. The waiver is available to all HOME participating jurisdictions.

Contact: Virginia Sardone, Director, Office of Affordable Housing Programs, Office of Community Planning and Development, Department of Housing and Urban Development, 451 Seventh Street SW, Room 7160, Washington, DC 20410, telephone (202) 708-2684.

• Regulations: 24 CFR 91.220, 24 CFR 91.320.

Project/Activity: Housing and homeless needs assessment, housing market analysis, and strategic plan in Consolidated Plan, and action plans to the extent they are limited to a specific program year.

Nature of Requirement: 42 U.S.C. 12705(a)(2) requires that grantees submit and provide updates to a comprehensive housing affordability strategy, which contains a housing and homeless needs assessment, housing market analysis, and strategic plan, in order to receive CDBG funds. 24 CFR 91.220 for entitlement communities and 24 CFR 91.320 for states require that grantees incorporate the statutory comprehensive housing affordability strategy requirements in their annual action plans.

Granted By: John Gibbs, Acting Assistant Secretary for Community Planning and Development.

Date Granted: April 9, 2020.

Reason Waived: To expedite grantees' use of CDBG-CV funds, HUD is waiving the requirements at 42 U.S.C. 12705(a)(2) to the extent it requires updates to the housing and homeless needs assessment, housing market analysis, and strategic plan, and 24 CFR 91.220 and 91.320 to the extent the action plan is limited to a specific program year to permit grantees to prepare substantial amendments to their most recent annual action plan, including their 2019 annual action plan.

Applicability: The statutory comprehensive housing affordability strategy requirements are waived to allow grantees to prepare substantial amendments to their most recent annual action plan. In their amended annual action plans, grantees must identify the proposed use of all funds and how the funds will be used to prevent, prepare for, and respond to coronavirus.

Contact: James Höemann, Office of Block Grant Assistance, Entitlement Communities Division, Office of Community Planning and Development, Department of Housing and Urban Development, 451 Seventh Street SW, Room 7282, Washington, DC 20410, telephone (202) 402-5716.

• Regulation: 24 CFR 91.520(a).

Project/Activity: The Consolidated Annual Performance and Evaluation Report (performance report) submission to HUD within 90 days after the close of a jurisdiction's program year.

Nature of Requirement: The regulation at 24 CFR 91.520(a) requires each grantee to submit a performance report to HUD within 90 days after the close of the grantee's program year.

Granted By: John Gibbs, Acting Assistant Secretary for Community Planning and Development.

Date Granted: May 7, 2020.

Reason Waived: Under the authority at 24 CFR 91.600, HUD is authorized to waive this requirement when a determination of good cause is made and supported by documentation. Given the outbreak of the coronavirus known as SARS-CoV-2 and the extenuating circumstances placed on state and local governments, and citizens, HUD has determined that there is good cause for waiving this provision. The extenuating circumstances and administrative strain supporting this waiver are well documented in the broad public news coverage related to the outbreak.

Applicability: For program year 2019 CAPERs, the requirement that grantees submit a performance report within 90 days after the close of a jurisdiction's program year is waived, subject to the condition that within 180 days after the close of a jurisdiction's program year the jurisdiction shall submit its performance report.

Contact: James Höemann, Office of Block Grant Assistance, Entitlement Communities Division, Office of Community Planning and Development, Department of Housing and Urban Development, 451 Seventh Street SW, Room 7282, Washington, DC 20410, telephone (202) 402-5716.

• Regulation: 24 CFR 92.203(a)(1) and (2), and 24 CFR 92.64(a).

Project/Activity: Source documentation for HOME income determinations.

Nature of Requirement: The regulations require initial income determinations for HOME beneficiaries by examining source documentation covering the most recent two months.

Granted By: John Gibbs, Acting Assistant Secretary for Community Planning and Development.

Date Granted: April 10, 2020.

Reason Waived: The waiver permits the participating jurisdiction to use self-certification of income in lieu of source documentation to determine eligibility for HOME assistance of persons requiring emergency assistance related to COVID-19. Many families affected by actions taken to reduce the spread of COVID-19, such as business closures resulting in loss of employment or lay-offs, will not have documentation that accurately reflects current income and will not be able to qualify for HOME assistance if the requirement remains effective.

Applicability: This waiver is applicable to initial income determinations for individuals and families that have lost employment or income either permanently or temporarily due to the COVID-19 pandemic and who are applying for admission to a HOME rental unit or a HOME tenant-based rental assistance program. This waiver also applies to homeless individuals and families who are applying for admission to a HOME rental unit or a HOME tenant-based rental assistance program. If a PJ chooses to use this waiver availability, the PJ must ensure that self-certified income takes into consideration all income, including any unemployment and emergency benefits the applicant will receive. However, for purposes of an applicant's self-certification, emergency tax relief (commonly referred to as stimulus payments) is not to be included as an emergency benefit. Also, the PJ must arrange to conduct on-site rent and income reviews within 90 days after the waiver period. The PJ must include tenant income certifications in each project file. This requirement is waived through December 31, 2020, for rental assistance provided in response to the COVID-19 pandemic. The waiver is available to all HOME participating jurisdictions.

Contact: Virginia Sardone, Director, Office of Affordable Housing Programs, Office of Community Planning and Development, Department of Housing and Urban Development, 451 Seventh Street SW, Room 7160, Washington, DC 20410, telephone (202) 708-2684.

• Regulation: 24 CFR 92.203(a)(2) and 24 CFR 92.64(a).

Project/Activity: Source documentation for HOME income determinations.

Nature of Requirement: The regulations require the participating jurisdiction to determine a tenant-based rental assistance tenant's income by examining at least two months of source documentation evidencing income and projecting anticipated income forward for the next 12 months.

Granted By: John Gibbs, Acting Assistant Secretary for Community Planning and Development.

Date Granted: April 10, 2020.

Reason Waived: The waiver permits the participating jurisdiction to use self-certification of income in lieu of source documentation to determine eligibility for HOME assistance of persons requiring emergency rental assistance related to COVID-19. Given the rapid and unanticipated economic disruptions caused by the COVID-19 pandemic, source documentation from the past two months may not reflect the current financial circumstances of many households. Requiring participating jurisdictions to use source documentation would be administratively burdensome, may not reflect current or anticipated income, and may result in individuals and families being incorrectly disqualified from receiving TBRA.

Applicability: This waiver is applicable to tenant-based rental assistance provided to individuals and families experiencing financial hardship. The PJ must ensure that the tenant's self-certification indicates how the tenant's financial situation has changed (i.e., job loss or reduced wages), and include all income, including any unemployment or emergency benefits received by the tenant as a result of the pandemic. However, for the purposes of a tenant's self-certification, emergency tax relief (commonly referred to as stimulus payments) is not to be included as an emergency benefit. The PJ must include tenant income certifications in each project file. This requirement is waived through December 31, 2020, for rental assistance provided in response to the COVID-19 pandemic. The waiver is available to all HOME participating jurisdictions.

Contact: Virginia Sardone, Director, Office of Affordable Housing Programs, Office of Community Planning and Development, Department of Housing and Urban Development, 451 Seventh Street SW, Room 7160, Washington, DC 20410, telephone (202) 708-2684.

• Regulation: 24 CFR 92.205(e)(2) and 24 CFR 92.64(a).

Project/Activity: Four-year project completion deadline.

Nature of Requirement: The regulations require that projects assisted with HOME funds be completed within four years of the date that HOME funds were committed.

Granted By: John Gibbs, Acting Assistant Secretary for Community Planning and Development.

Date Granted: April 10, 2020.

Reason Waived: This waiver is necessary to provide additional time to permit completion of HOME-assisted projects that may be delayed as a result of the impact of COVID-19 on project timelines.

Applicability: The waiver applies to projects for which the four-year project completion deadline will occur on or after April 10, 2020. The completion deadlines for covered projects are extended to December 31, 2020. The waiver is available to all HOME participating jurisdictions.

Contact: Virginia Sardone, Director, Office of Affordable Housing Programs, Office of Community Planning and Development, Department of Housing and Urban Development, 451 Seventh Street SW, Room 7160, Washington, DC 20410, telephone (202) 708-2684.

• Regulation: 24 CFR 92.209(a) and (h) and 24 CFR 92.64(a).

Project/Activity: Eligible tenant-based rental assistance costs and maximum TBRA subsidy.

Nature of Requirement: The regulations state that eligible TBRA costs include rental assistance and security deposit payments made to income-eligible households. Participating jurisdictions can also use HOME funds to provide utility deposit assistance if such assistance is provided in conjunction with TBRA or a security deposit payment. The maximum amount of monthly assistance may not exceed the difference between the participating jurisdiction's rent standard and 30 percent of the tenant's monthly adjusted income.

Granted By: John Gibbs, Acting Assistant Secretary for Community Planning and Development.

Date Granted: April 10, 2020.

Reason Waived: The waiver allows participating jurisdictions to provide up to 100 percent subsidy for rent, security deposit payments, and utility bills paid by tenants affected by a reduction or loss of income from the COVID-19 pandemic. The COVID-19 pandemic has caused widespread loss or reduction of income, significantly affecting the financial stability of households, including existing TBRA families, and rendering many unable to pay rent and/or utilities. As individuals experience financial hardship, the amount of assistance required to ensure they remain housed will often exceed the participating jurisdiction's payment standard. Individuals may be unable to pay the participating jurisdiction's minimum required tenant contribution toward rent.

Applicability: This waiver is applicable to TBRA provided to individuals or families experiencing financial hardship, including existing TBRA families. PJs using this waiver authority must execute a rental assistance contract with the owner or tenant for a term mutually agreed upon by all parties, but not to exceed the December 31, 2020, waiver period. The PJ may make utility payments directly to the tenant or utility company based on utility bills submitted for the assisted unit, either by mail or electronically. The waiver applies through December 31, 2020. The waiver is available to all HOME participating jurisdictions.

Contact: Virginia Sardone, Director, Office of Affordable Housing Programs, Office of Community Planning and Development, Department of Housing and Urban Development, 451 Seventh Street SW, Room 7160, Washington, DC 20410, telephone (202) 708-2684.

• Regulation: 24 CFR 92.209(e) and 24 CFR 92.64(a).

Project/Activity: Term of rental assistance contract.

Nature of Requirement: The regulations state requirements for the term of rental assistance contracts, including that the term must begin on the first day of the term of the lease.

Granted By: John Gibbs, Acting Assistant Secretary for Community Planning and Development.

Date Granted: April 10, 2020.

Reason Waived: The waiver eliminates the requirement that the rental assistance contract begin on the first day of the term of the lease. This waiver is necessary to enable participating jurisdictions to assist tenants that are currently housed, including existing TBRA households, but have experienced sudden financial hardship as a result of the COVID-19 pandemic. Because affected households already have an executed lease, it is impossible for the TBRA contract to begin on the first day of the term of the lease.

Applicability: This requirement is waived through December 31, 2020, for TBRA provided in response to the COVID-19 pandemic. The PJ's requirement to execute a rental assistance contract with the owner or tenant is not waived. PJs using this waiver authority must execute a rental assistance contract with the owner or tenant for a term mutually agreed upon by all parties, but not to exceed the December 31, 2020, waiver period. The waiver is available to all HOME participating jurisdictions.

Contact: Virginia Sardone, Director, Office of Affordable Housing Programs, Office of Community Planning Development, Department of Housing and Urban Development, 451 Seventh Street SW, Room 7160, Washington, DC 20410, telephone (202) 708-2684.

• Regulation: 24 CFR 92.209(f) and 24 CFR 92.64(a).

Project/Activity: HOME TBRA rent reasonableness.

Nature of Requirement: The regulations require that a participating jurisdiction must disapprove a lease if the rent is not reasonable, based on an assessment of rents charged for comparable unassisted rental units.

Granted By: John Gibbs, Acting Assistant Secretary for Community Planning and Development.

Date Granted: April 10, 2020.

Reason Waived: The waiver will permit participating jurisdictions to provide immediate rental assistance without requiring an assessment of rents charged for comparable unassisted rental units. Given the unprecedented need for rental assistance for individuals facing financial hardship during the pandemic, requiring participating jurisdictions to conduct a rent comparison prior to providing rental assistance presents an undue administrative burden.

Applicability: The waiver is applicable to TBRA provided to individuals and tenant households experiencing financial hardship because of a reduction or loss of income. The requirement is waived through December 31, 2020. The waiver is available to all participating jurisdictions.

Contact: Virginia Sardone, Director, Office of Affordable Housing Programs, Office of Community Planning Development, Department of Housing and Urban Development, 451 Seventh Street SW, Room 7160, Washington, DC 20410, telephone (202) 708-2684.

• Regulation: 24 CFR 92.209(g) and 24 CFR 92.64(a).

Project/Activity: HOME TBRA tenant protections—lease.

Nature of Requirement: The regulations require that each HOME-assisted tenant have a lease that complies with the tenant protection requirements of 24 CFR 92.253(a) and (b).

Granted By: John Gibbs, Acting Assistant Secretary for Community Planning and Development.

Date Granted: April 10, 2020.

Reason Waived: The waiver will permit participating jurisdictions to assist individuals currently housed but facing financial hardship, where an executed lease is already in place. During the COVID-19 pandemic, participating jurisdictions may assist individuals that are already in rental units but are unable to pay rent and/or utilities due to job loss or reduced wages. These individuals already have an executed lease that may include one or more of the prohibited lease terms included in 24 CFR 92.253(b). Requiring participating jurisdictions to immediately execute or amend leases creates an undue administrative burden and may disqualify some in-place tenants from receiving TBRA.

Applicability: The requirement that a tenant assisted by TBRA have a lease that complies with the requirements of 24 CFR 92.253(a) and (b) is waived through December 31, 2020, for rental assistance provided to tenants already housed who have an executed lease. PJs using this waiver authority are required to execute a rental assistance contract with the tenant for a term mutually agreed upon by all parties, but not to exceed the waiver period ending on December 31, 2020. PJs must still comply with all VAWA requirements contained in 24 CFR 92.359 by including, at a minimum, a lease addendum that addresses all VAWA requirements. The waiver is available to all HOME participating jurisdictions.

Contact: Virginia Sardone, Director, Office of Affordable Housing Programs, Office of Community Planning and Development, Department of Housing and Urban Development, 451 Seventh Street SW, Room 7160, Washington, DC 20410, telephone (202) 708-2684.

• Regulation: 24 CFR 92.209(i) and 24 CFR 92.64(a).

Project/Activity: HOME TBRA housing quality standards.

Nature of Requirement: The regulations require that all housing occupied by households receiving HOME TBRA must meet the housing quality standards (HQS) at 24 CFR 982.401. The participating jurisdiction is required to inspect the unit for compliance prior to occupancy and annually thereafter.

Granted By: John Gibbs, Acting Assistant Secretary for Community Planning and Development.

Date Granted: April 10, 2020.

Reason Waived: This waiver will permit the participating jurisdiction to rapidly house or assist individuals affected by the COVID-19 pandemic without requiring an initial HQS inspection. The COVID-19 pandemic has created an unprecedented need for rental assistance for tenant households facing financial hardship. Participating jurisdictions must act quickly to address these needs and requiring HQS inspections of all units where HOME TBRA assistance is provided would create an administrative burden and reduce participating jurisdictions' ability to respond timely to the housing needs created by the pandemic.

Applicability: The requirement is waived through December 31, 2020, for rental assistance provided in response to the COVID-19 pandemic. The waiver is available to all HOME participating jurisdictions. The lead-safe housing requirements of 24 CFR part 35, subpart M, made applicable to units leased by recipients of HOME TBRA by the HOME regulation at 24 CFR 92.355, cannot be waived. Consequently, units built before 1978 must undergo visual evaluation and paint repair in accordance with 24 CFR part 35, subpart M.

Contact: Virginia Sardone, Director, Office of Affordable Housing Programs, Office of Community Planning Development, Department of Housing and Urban Development, 451 Seventh Street SW, Room 7160, Washington, DC 20410, telephone (202) 708-2684.

• Regulation: 24 CFR 92.210(a) and (b) and 24 CFR 92.64(a).

Project/Activity: Use of HOME funds for operating reserves for troubled HOME projects.

Nature of Requirement: The regulations establish provisions to permit HOME rental projects that are not financially viable (i.e., projects for which operating costs significantly exceed operating revenue) to be preserved through the use of HOME funds to recapitalize project reserves. The regulations also require HUD to review market needs, available resources, and the likelihood of long-term viability of the project before approving this use of HOME funds. In addition, a written memorandum of agreement between HUD and the participating jurisdiction is a precondition of this funding and the regulation places certain limitations on the amount of funding.

Granted By: John Gibbs, Acting Assistant Secretary for Community Planning and Development.

Date Granted: April 10, 2020.

Reason Waived: Participating jurisdictions will not be required to obtain HUD approval or execute a memorandum of agreement with HUD before providing this assistance. The waiver is necessary to enable participating jurisdictions to take rapid action to preserve the financial viability of HOME-assisted affordable rental projects currently under a HOME period of affordability. Because existing tenants in HOME units may be unable to meet their rent obligations due to the economic impact of the COVID-19 pandemic, HOME rental projects may experience operating deficits due to the sudden decrease in rental revenue.

Applicability: The waiver applies to HOME-assisted rental projects currently within the period of affordability established in the HOME written agreement. PJs will not be required to obtain HUD approval or execute a memorandum of agreement with HUD before providing this assistance. PJs may only exercise this waiver authority when the project owner agrees to forego: (1) Any distributions of residual receipts resulting from the project throughout the waiver period and for a period of 6 months thereafter; (2) any right under the existing lease agreement or State or local law to pursue legal action against tenants of HOME-assisted units for non-payment of rent and the collection of any fees associated with late payments without prior approval of the PJ; and (3) any adverse credit reporting against tenants of HOME-assisted units for nonpayment of rent or fees without prior approval of the PJ.

The PJ may provide additional HOME funds to recapitalize operating deficit reserves for HOME-assisted rental projects if the PJ determines that the project is experiencing operating deficits related to the economic effects of the COVID-19 pandemic during the waiver period. The PJ may only provide this assistance to projects experiencing operating deficits that will not be covered by insurance or other sources (e.g., other private, local, state, or federal funds).

The maximum amount of HOME assistance that may be provided is equal to the total of the project's operating expenses, previously scheduled payments to a replacement reserve, and actual debt service (excluding debt service of loans in forbearance) multiplied by the proportionate share of HOME-assisted units to the total number of units in the project for the period beginning on April 1, 2020 and ending on December 31, 2020. Project operating expenses may be demonstrated by one of the following:

• The Owner's most recent year to date financials for the project;

• Certified project-level accounting records covering the most recent 3 months; and

• Copies of project-level bank statements covering the most recent 3 months.

Project operating expenses may also be adjusted due to COVID-19-related expenditures and foregone expenses due to social distancing measures and other COVID-19-related impacts. An owner may demonstrate these expenses with recent receipts, copies of work orders, revised budgets that have been certified by the project owner as true, accurate representations of current expenditures.

In order to take advantage of this waiver, PJs must amend the HOME written agreement with the project owner to include the amount of HOME funds that will be provided to an operating reserve (i.e., the proportion of total costs attributable to HOME units as described in the paragraph above), the costs eligible to be paid with HOME funds in the operating reserve (i.e., operating expenses, scheduled payments to a replacement reserve, and qualifying debt service), and the documentation the PJ is required to maintain to demonstrate the allowable amounts and eligibility of costs paid with the HOME funds in the operating reserve.

The written agreement must specify that the owner must forego: (1) Any distributions of residual receipts during the period this waiver is in effect and for a period of 6 months thereafter; (2) any right under the existing lease agreement or State or local law to pursue legal action against tenants of HOME-assisted units for non-payment of rent and the collection of any fees associated with late payments without prior approval of the PJ; and (3) any adverse credit reporting against tenants of HOME-assisted units for nonpayment of rent or fees without prior approval of the PJ.

Within six months following the waiver period, the PJ must review the project's records of actual revenue and operating expenses, total amount of HOME funds expended from the operating reserve, and the eligibility of expenses by examining invoices and receipts. The written agreement must require the project owner to repay any expenditures for costs determined to be ineligible and any balance of HOME funds remaining in the reserve after December 31, 2020. Any HOME funds repaid to the PJ must be deposited in the local HOME account and reported as program income in IDIS. The waiver is effective through December 31, 2020.

Contact: Virginia Sardone, Director, Office of Affordable Housing Programs, Office of Community Planning and Development, Department of Housing and Urban Development, 451 Seventh Street SW, Room 7160, Washington, DC 20410, telephone (202) 708-2684.

• Regulation: 24 CFR 92.252(d)(1) Utility Allowance Requirements.

Project/Activity: San Luis Obispo County, California, requested a waiver of 24 CFR 92.252(d)(1) to allow use of the utility allowance established by local public housing agency (PHA) for a HOME-assisted project—Iron Works Apartments.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: John Gibbs, Acting Assistant Secretary for Community Planning and Development.

Date Granted: April 8, 2020.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 92.252(d)(1) Utility Allowance Requirements.

Project/Activity: Los Angeles County, California, requested a waiver of 24 CFR 92.252(d)(1) to allow use of the utility allowance established by local public housing agency (PHA) for two HOME-assisted projects—Francisquito Senior Apartments and Athens Vistas Senior Apartments.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: John Gibbs, Acting Assistant Secretary for Community Planning and Development.

Date Granted: May 11, 2020.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 92.252(d)(1) Utility Allowance Requirements.

Project/Activity: The city of Santa Cruz, California, requested a waiver of 24 CFR 92.252(d)(1) to allow use of the utility allowance established by local public housing agency (PHA) for a HOME-assisted project—Water Street Apartments.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: John Gibbs, Acting Assistant Secretary for Community Planning and Development.

Date Granted: May 11, 2020.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 92.252(d)(1) Utility Allowance Requirements.

Project/Activity: Ventura County, California, requested a waiver of 24 CFR 92.252(d)(1) to allow use of the utility allowance established by local public housing agency (PHA) for a HOME-assisted project—Willett Ranch Apartments.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: John Gibbs, Acting Assistant Secretary for Community Planning and Development.

Date Granted: May 11, 2020.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 92.252(d)(1) Utility Allowance Requirements.

Project/Activity: Sonoma County, California, requested a waiver of 24 CFR 92.252(d)(1) to allow use of the utility allowance established by local public housing agency (PHA) for a HOME-assisted project—Altamira Family Apartments.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: John Gibbs, Acting Assistant Secretary for Community Planning and Development.

Date Granted: June 3, 2020.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 92.254(a)(3) and 24 CFR 92.64(a).

Project/Activity: Nine-month deadline for sale of HOME-assisted homebuyer units

Nature of Requirement: The regulations require that a homebuyer housing unit developed with HOME funds have a ratified contract for sale to an eligible homebuyer within nine months of the date of completion of construction or rehabilitation.

Granted By: John Gibbs, Acting Assistant Secretary for Community Planning and Development.

Date Granted: April 10, 2020.

Reason Waived: Many participating jurisdictions will not be able to meet this deadline due to the effect the COVID-19 pandemic will have on the ability of eligible households to qualify for mortgages as a result of income losses or the inability to schedule inspections, title searches, or closings during periods of business closures. The waiver is necessary to prevent the loss of homeownership opportunities for HOME-eligible families and temporarily suspend the required corrective action of repayment of HOME funds or conversion of the homebuyer units to rental housing.

Applicability: The waiver applies to projects for which the nine-month homebuyer sale deadline occurs on or after the date of this memorandum and extends the deadline for those projects to December 31, 2020. This waiver does not apply to the remaining requirements of the regulation, including that a homebuyer must receive housing counseling, and that a PJ must determine eligibility of a family by including the income of all persons living in the housing. The waiver is available to all HOME participating jurisdictions.

Contact: Virginia Sardone, Director, Office of Affordable Housing Programs, Office of Community Planning and Development, Department of Housing and Urban Development, 451 Seventh Street SW, Room 7160, Washington, DC 20410, telephone (202) 708-2684.

• Regulation: 24 CFR 92.504(d)(1)(ii) and 24 CFR 92.64(a).

Project/Activity: On-site inspections of HOME-assisted rental housing.

Nature of Requirement: The regulations require that during the period of affordability participating jurisdictions perform on-site inspections of HOME-assisted rental housing at least once every three years to determine compliance with the property standards and to verify the information submitted by the owners in accordance with the income and rent requirements.

Granted By: John Gibbs, Acting Assistant Secretary for Community Planning and Development.

Date Granted: April 10, 2020.

Reason Waived: Waiving the requirement to perform ongoing on-site inspections will help protect participating jurisdiction staff and limit the spread of COVID-19. To protect participating jurisdiction staff and reduce the spread of COVID-19, this waiver extends the timeframe for participating jurisdictions to perform on-going periodic inspections and on-site reviews to determine a HOME rental project's compliance with property standards and rent and income requirements.

Applicability: The waiver is applicable to ongoing periodic inspections and does not waive the requirement to perform initial inspections of rental properties upon completion of construction or rehabilitation. The waiver is also applicable to on-site reviews to determine a HOME rental project's compliance with rent and income requirements if the project owner is unable to make documentation available electronically. The waiver is in effect through December 31, 2020. The waiver is available to all HOME participating jurisdictions.

Contact: Virginia Sardone, Director, Office of Affordable Housing Programs, Office of Community Planning and Development, Department of Housing and Urban Development, 451 Seventh Street SW, Room 7160, Washington, DC 20410, telephone (202) 708-2684.

• Regulation: 24 CFR 92.504(d)(1)(iii); 24 CFR 92.209(i) and 24 CFR 92.64(a).

Project/Activity: Annual inspection of units occupied by recipients of HOME tenant-based rental assistance (TBRA).

Nature of Requirement: The regulations require participating jurisdictions to annually inspect each unit occupied by a recipient of HOME TBRA.

Granted By: John Gibbs, Acting Assistant Secretary for Community Planning and Development.

Date Granted: April 10, 2020.

Reason Waived: Waiving the requirement that these annual inspections be performed according to schedule will protect the health of both inspectors and TBRA tenants by observing physical distancing recommendations to limit the spread of COVID-19.

Applicability: The waiver is applicable to annual housing quality standards inspections required to occur from April 10, 2020, through December 31, 2020. PJs shall make reasonable efforts to address any tenant reported health and safety issues during the waiver period. The waiver is available to all HOME participating jurisdictions.

Contact: Virginia Sardone, Director, Office of Affordable Housing Programs, Office of Community Planning and Development, Department of Housing and Urban Development, 451 Seventh Street SW, Room 7160, Washington, DC 20410, telephone (202) 708-2684.

• Regulation: 24 CFR 92.551(b)(1) and 24 CFR 92.64(a).

Project/Activity: Timeframe for a HOME participating jurisdiction's response to findings of noncompliance.

Nature of Requirement: The regulations require that if HUD determines that a participating jurisdiction has not met a provision of the HOME regulations, the participating jurisdiction must be notified and given an opportunity to respond within a time period prescribed by HUD, not to exceed 30 days.

Granted By: John Gibbs, Acting Assistant Secretary for Community Planning and Development.

Date Granted: April 10, 2020.

Reason Waived: The waiver is necessary to permit HUD to provide participating jurisdictions with an extended period to respond to findings of noncompliance in recognition of the unanticipated circumstances created by the COVID-19 pandemic. Requiring participating jurisdictions to respond to all findings of noncompliance within 30 days may interfere with a participating jurisdiction's ability to address the unprecedented housing needs caused by the COVID-19 pandemic.

Applicability: The waiver applies to all findings of HOME regulatory noncompliance issued from April 10, 2020, through December 31, 2020. In the notice of findings, HUD will specify a time period for the participating jurisdiction's response. HUD may also extend time periods imposed before April 10, 2020. The waiver is available to all HOME participating jurisdictions.

Contact: Virginia Sardone, Director, Office of Affordable Housing Programs, Office of Community Planning and Development, Department of Housing and Urban Development, 451 Seventh Street SW, Room 7160, Washington, DC 20410, telephone (202) 708-2684.

II. Regulatory Waivers Granted by the Office of Government National Mortgage Association

For further information about the following regulatory waivers, please see the name of the contact person that immediately follows the description of the waiver granted.

• Regulation: 24 CFR 320.15(a). Project/Activity: Regulatory Waiver of Issuer Default Status in Connection with The Pass-Through Assistance Program Related To The COVID-19 National Emergency.

Nature of the Requirement: The regulation at 24 CFR 320.15(a) establishes that any failure or inability of the issuer to make payments as due, as well as such other events as may be identified by the Association and included in the applicable guaranty agreement, contractual agreement or MBS Guide, shall constitute a default of the issuer.

Granted By: Seth D. Appleton, Principal Executive Vice President, Ginnie Mae.

Date Granted: April 10, 2020.

Reason Waived: On March 13, 2020, the President declared a National Emergency related to the COVID-19 pandemic. For the first time, with the COVID-19 National Emergency, Ginnie Mae is facing a situation in which the potential liquidity threat from the emergency has virtually no limitations within the universe of approved Issuers. Because of statutory changes by Congress, such as CARES Act, Public Law 116-136, and policy changes by the insuring and guaranteeing agencies made in response to the COVID-19 National Emergency, it is conceivable that a broad cross section of non-bank Issuers participating in the Ginnie Mae program would seek assistance as the result of liquidity concerns and inability to make payments as due. Ginnie Mae's program allows for the pass-through assistance (PTAP) in limited situations. Given the potential number of issuers that may be impacted, Ginnie Mae has determined that this situation warrants a regulatory waiver because the potential breadth and scale of the impact, and subsequent need for assistance, makes it impractical—and unwise—to assume that there would be no negative impact on the secondary mortgage market if a large number of issuers are declared to be in default because of financial challenges caused by statutes and policies related to a Presidentially-declared National Emergency. Therefore, modifying the definition of default as inapplicable to issuers that request PTAP assistance due to COVID-19 National Emergency is reasonable to meet Ginnie Mae's statutory mission to provide stability in the secondary market for residential mortgages.

Contact: Rene Mondonado, Director, Monitoring & Asset Management, Office of Issuer & Portfolio Management, Government National Mortgage Association, Department of Housing and Urban Development, 425 Third St. SW, 4th FL, Washington, DC 20024, Telephone (202) 475-7992.

III. Regulatory Waivers Granted by the Office of Housing—Federal Housing Administration (FHA)

For further information about the following regulatory waivers, please see the name of the contact person that immediately follows the description of the waiver granted.

• Regulation: 24 CFR 5.801 (c)(2).

Project/Activity: Financial Statement Due Date.

Nature of Requirement: For specified Multifamily and Residential Care Borrowers otherwise required to submit Annual Financial Statements on or before June 30, 2020, extend the due date of the Borrower Annual Financial Statements to September 30, 2020, and as otherwise provided by law.

Granted By: Len Wolfson, Acting Assistant Secretary for Housing—Federal Housing Commissioner.

Date Granted: June 25, 2020.

Reason Waived: Due to COVID-19 National Health Emergency the Borrower Annual Financial Statements have been extended by 90-days.

Contact: Brandt Witte, Program Analyst, Multifamily Asset and Counterparty Oversight Division, Office of Housing, Office of Asset Management and Portfolio Oversight, Department of Housing and Urban Development, 451 Seventh Street SW, Room, telephone (202) 402-2614.

• Regulation: 24 CFR 200.73 (c).

Project/Activity: Henderson Heights Apartment, Hendersonville, North Carolina, Project No. 053-11454.

Nature of Requirement: HUD's regulation at 24 CFR 200.73 (c) requiring that “not less than five rental dwelling units [of an FHA insured multifamily housing project] shall be on one site. The Housing Authority has and will continue to manage the project post-conversion. Henderson Heights consists of 19 residential parcels with 164 buildings with a total of 352 units. The cluster of units/projects were acquired by HHA over a 22-year period. Two satellite sites are located north and west of Hendersonville and are not located within the city limits. The units were acquired and/or developed in seven phases/projects between 1960 and 1982. Out of the 19 parcels, 4 parcels are non-conforming as they each contain fewer than 5 units. The 4 non-conforming parcels contain a total of 12 units. All the non-conforming parcels are located within the City of Hendersonville in close proximity to the larger, conforming parcels. Three of the parcels are located on the same street within a block of each other.

Granted by: Len Wolfson, Acting Assistant Secretary for Housing—Federal Housing Commissioner.

Date Granted: May 22, 2020.

Reason Waived: The waiver will meet HUD's goal of preserving and maintaining affordable rental housing for low income families. The proposed FHA-insured loan/RAD conversion will preserve and rehabilitate necessary affordable housing and will contribute to the revitalization of this Hendersonville community.

Contact: Patricia M. Burke, Director, Office of Multifamily Production, HTD, Office of Housing, Department of Housing and Urban Development, 451 Seventh Street SW, Room 6132, Washington, DC 20410-8000, telephone (202) 402-5693.

• Regulation: 24 CFR 200.73 (c).

Project/Activity: Neighborhood Apartments, Kalamazoo, Michigan, Project No. 047-11246.

Nature of Requirement: HUD's regulation at 24 CFR 200.73 (c) requiring that “not less than five rental dwelling units [of an FHA insured multifamily housing project] shall be on one site. All sites composing the Neighborhood Apartment project are located in one neighborhood outside downtown Kalamazoo. The project constitutes one manageable, marketable real estate asset. The project offers 12 one bedroom/one bath units and 32 two bedroom/one bath housed within 11 one-story and two-story buildings. The project consists of three one-story buildings and seven two-story buildings located on 8 separate scattered sites. Two of the parcels are contiguous and contain two units each. One parcel contains 4 units. The remaining 5 parcels all contain 5 or more units.

Granted by: Len Wolfson, Acting Assistant Secretary for Housing—Federal Housing Commissioner.

Date Granted: June 23, 2020.

Reason Waived: The waiver will meet HUD's goal of preserving and maintaining affordable rental housing for low income families. The proposed FHA-insured loan/RAD conversion will preserve and rehabilitate necessary affordable housing and will contribute to the revitalization of this Kalamazoo community.

Contact: Patricia M. Burke, Director, Office of Multifamily Production, HTD, Office of Housing, Department of Housing and Urban Development, 451 Seventh Street SW, Room 6132, Washington, DC 20410, telephone (202) 402-5693.

• Regulation: 24 CFR 200.73(c).

Project/Activity: Satchmo Plaza, New Orleans, LA, Project No. 064-11213.

Nature of Requirement: The 24 CFR part 200.73 (c) which states that a site must contain no less than five rental dwelling units. Section 3.1.CC of the 2016 MAP Guide permits a project with two or more non-contiguous parcels of land when the parcels comprise one marketable, manageable real estate entity. Bedford Lending Corporation has applied for mortgage insurance under the Section 223(f) program to refinance Satchmo Plaza. The proposal is to combine two separate, scattered site, Section 8 assisted properties known as Satchmo Plaza and Armant Plaza into a single manageable property consisting of 46 total units and to be known as Satchmo Plaza. The projects are now owned by mortgagors controlled by the same non-profit entity. The existing Satchmo Plaza is 7 buildings on 5 sites totaling 30 units. It is a Section 202 property for the elderly. The existing Armant Plaza is 8 buildings on 3 sites with a total of 16 units. Armant is assisted with HOME/CDBG funds but is not presently age restricted. All of the combined scattered sites (8 sites, 15 buildings) are located in the same neighborhood near downtown New Orleans. Of the 8 sites, 4 have less than five units. The mortgage amount is $2,668,000.

Granted by: Len Wolfson, Acting Assistant Secretary for Housing—Federal Housing Commissioner.

Date Granted: June 24, 2020.

Reason Waived: The waiver will meet HUD's goal of preserving and maintaining affordable rental housing for low income families. The proposed FHA-insured loan/RAD conversion will preserve and rehabilitate necessary affordable housing and will contribute to the revitalization of this New Orleans community.

Contact: Patricia M. Burke, Director, Office of Multifamily Production, HTD, Office of Housing, Department of Housing and Urban Development, 451 Seventh Street SW, Room 6132, Washington, DC 20410, telephone (202) 402-5693.

• Regulation: 24 CFR 200.194(d).

Project/Activity: FHA Single Family Waiver for Non-Profit Roster Recertification.

Nature of Requirement: Under 24 CFR 200.194 (d), HUD-approved nonprofit organizations must reapply for approval before the expiration of an existing 2-year authorization term to continue participating in FHA programs. Approximately 30 HUD-approved non-profit organizations that have been impacted by the COVID-19 pandemic are within 90-120 days of their approval or recertification date.

Granted by: Len Wolfson, Acting Assistant Secretary for Housing—Federal Housing Commissioner.

Date Granted: June 20, 2020.

Reason Waived: A temporary 120-day extension makes it possible for FHA-approved non-profit organizations to operate without disruption during the COVID-19 pandemic. The temporary waiver is consistent with the Departments mission to promote and support affordable housing objectives and it does not violate any statutory requirements.

Contact: Kevin Stevens, Acting Director, Office of Single Family Program Development, Office of Housing, Department of Housing and Urban Development, 451 Seventh Street SW, Room 9266, Washington, DC 20410, telephone (202) 402-4317.

• Regulation: 24 CFR 203.255(b)(11).

Project/Activity: COVID-19 Certification and Pre-Endorsement Review Requirements for The United States and Its Surrounding Territories.

Nature of Requirement: The U.S. Department of Housing and Urban Development's (HUD) regulation at 24 CFR 203.255(b) addresses the documentation that must be submitted to HUD for mortgages originated under the Direct Endorsement and Lender Insurance Programs. Additionally, subsection 203.255(b)(11) requires a mortgage certification on a form prescribed by the Secretary, stating that the authorized representative of the mortgagee has reviewed the mortgage documents and certifies that the mortgage complies with the requirements of paragraph (b) incorporating all certification items that apply to the mortgage loan as set forth in the applicable handbook (i.e., HUD Handbook 4000.1). The referenced prescribed form is Form HUD 92900-A. A mortgagee must certify at the time of insurance endorsement the loan is in compliance with all FHA origination and underwriting requirements including that the borrower's employment status and ability to make mortgage payments is accurate.

Granted by: Len Wolfson, Acting Assistant Secretary for Housing—Federal Housing Commissioner.

Date Granted: June 3, 2020.

Reason Waived: The waiver of the requirement in 24 CFR 203.255(b)(11) that states the mortgagee must certify, as prescribed on the 92900-A, at the time of insurance endorsement that the loan is in compliance with all FHA origination and underwriting requirements solely to the extent that the borrower's employment status and ability to make mortgage payments, will permit the mortgagee that grants the borrower an Accommodation as defined at 4021 of the Coronavirus Aid, Relief, and Economic Security Act (CARES Act) for forbearance of mortgage payments, after closing of the mortgage transaction to be in compliance with all FHA origination and underwriting requirements.

Contact: Kevin Stevens, Acting Director Single Family Program Development, Office of Housing, Department of Housing and Urban Development, 451 Seventh Street SW, Room 9266, Washington, DC 20410, telephone (202) 402-4317.

• Regulation: 24 CFR 219.220(b).

Project/Activity: City View Park Walnut I, FHA Project Number 083-14002; City View Park Chestnut II, FHA Project Number 083-12004; and City View Park Acorn III, FHA Project Number 083-12005, Louisville, KY. The owner of City View Park I, II, and III seeks approval to defer repayment of the Flexible Subsidy Operating Assistance Loans on the subject projects.

Nature of Requirement: The regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted by: Brian D. Montgomery, Assistant Secretary for Housing—Federal Housing Commissioner.

Date Granted: January 31, 2020.

Reason Waived: The owner requested and was granted waiver of the requirement to repay the Flexible Subsidy Operating Assistance Loans in full when they became due. Deferring the loan payments will preserve these affordable housing resources for an additional 40 years through the execution and recordation of a Rental Use Agreement.

Contact: Walter D. Wynn, Director, FAMD, Office of Housing, Department of Housing and Urban Development, 451 7th Street SW, Room 6164, Washington, DC 20410, telephone (202) 402-2231.

• Regulation: 24 CFR 242.17(c)(2).

Project/Activity: Maimonides Medical Center, Brooklyn, New York.

Nature of Requirement: 24 CFR 242.17(c)(2) prohibits FHA from extending Commitments for Insurance of Advances for more than 180 days following the original commitment date.

Granted By: Brian D. Montgomery, Assistant Secretary for Housing—Federal Housing Commissioner.

Date Granted: April 28, 2020.

Reason Waived: Initial Endorsement of Maimonides Medical Center's supplement (Section 241) loan was delayed due to the Covid-19 pandemic. The waiver allowed the Federal Housing Administration to schedule closing of Maimonides Medical Center's supplemental (Section 241) construction loan for August 2020.

Contact: Paul Giaudrone, Underwriting Director, Office of Hospital Facilities, Office of Healthcare Programs, Office of Housing, Department of Housing and Urban Development, 409 3rd Street SW, Washington, DC 20024, telephone (202) 708-0599 Ext. 5684.

• Regulation: 24 CFR 266.200(b)(2).

Project/Activity: Massachusetts Housing Partnership (MHP) The Department requires, in 24 CFR 266.200(b)(2), Substantial Rehabilitation, that substantial rehabilitation (S/R) is defined as any combination of the following work to an existing facility of a project that aggregates to at least 15 percent of the project's value after the rehabilitation and that results in material improvement of the project's economic life, livability, marketability, and profitability. Boston, Massachusetts. There is no project number.

Nature of Requirement: The Waiver of 24 CFR 266.200(b)(2), Substantial Rehabilitation. The waiver would permit Mass Housing Partnership (MHP) to use the revised definition published in the Revised MAP Guide on January 29, 2016, such that S/R is: Any scope of work that either (a) exceeds in aggregate cost a sum equal to the `base per dwelling unit limit' times the applicable *High Cost Factor, or (b) replacement of two or more building systems. Replacement is when the cost of replacement work exceeds 50 percent of the cost of replacing the entire system.

*The High Cost Factors for 2019 were published through a Housing Notice (HN) on May 20, 2019, and the revised statutory limits were recently published in the Federal Register on January 1, 2018. The 2019 base dwelling unit amount to determine substantial rehabilitation for FHA insured loan programs has been increased from $15,933 (changed from $6,500 per unit in the 2016 MAP guide) to $15,933. This amount will change annually based upon the change in the annual Consumer Price Index (CPI), along with the statutory limits or other inflation cost index published by HUD.

The regulatory waiver is subject to the following conditions:

1. The waiver is limited to forty-eight (48) projects and expires on December 31, 2023 for waiver request related to regulation 24 CFR 266.200(b)(2) and (c)(2).

2. MHP must elect to take 50 percent or more of the risk of loss on all transactions.

3. Mortgages made under this waiver may have amortization periods of up to 40 years, but with a minimum term of 17 years.

4. All other requirements of 24 CFR 266.410—Mortgage Provision remain applicable. The waiver is applicable only to loans made under MHP's Risk Sharing Agreement.

5. Projects must comply with Davis-Bacon labor standards in accordance with 24 CFR 266.225.

6. MHP must comply with regulations stated in 24 CFR 266.210 for insured advances or insurance upon completion transactions.

7. The loans exceeding $50 million require a separate waiver request.

8. Occupancy is no less than 93 percent for previous 12 months.

9. No defaults in the last 12 months of the HFA loan to be refinanced.

10. A 20-year affordable housing deed restriction placed on title that conforms to the Section 542(c) statutory definition.

11. A Property Capital Needs Assessment (PCNA) must be performed and funds escrowed for all necessary repairs, and reserves funded for future capital needs; and

12. For projects subsidized by Section 8 Housing Assistance Payment (HAP) contracts:

a: Owner agrees to renew HAP contract(s) for 20-year term, (subject to appropriations and statutory authorization, etc.), and b: In accordance with regulations in 24 CFR 883.306(e), and Housing Notice 2012-14—Use of “New Regulation” Section 8 Housing Assistance Payments (HAP) Contracts Residual Receipts of Offset Project-Based Section 8 Housing Assistance Payments, if at any time MHP determines that a project's excess funds (surplus cash) after project operations, reserve requirements and permitted distributions are met, MHP must place the excess funds into a separate interest-bearing account. Upon renewal of a HAP Contract the excess funds can be used to reduce future HAP payments or other project operations/purposes. When the HAP Contract expires, is terminated, or any extensions are terminated, any unused funds remaining in the Residual Receipt Account at the time of the contract's termination must be returned.

Granted By: Len Wolfson, Acting Assistant Secretary for Housing-Federal Housing Commissioner.

Date Granted: June 30, 2020.

Reason Waived: The Department is approving your request for forty-eight (48) insured under the 542(c) HFA Risk Sharing Program expiring on December 31, 2023. The waiver of 24 CFR 266.200(b)(2) would permit MHP to use the revised definition published in the Revised MAP Guide on January 29, 2016, such that S/R is: Any scope of work that either (a) exceeds in aggregate cost a sum equal to the `base per dwelling unit limit' times the applicable *High Cost*High Cost Factor, or (b) replacement of two or more building systems. Replacement is when the cost of replacement work exceeds 50 percent of the cost of replacing the entire system.

Contact: Patricia M. Burke, Director, Office of Multifamily Production, HTD, Office of Housing, Department of Housing and Urban Development, 451 Seventh Street SW, Room 6132, Washington, DC 20410, telephone (202) 402-5693.

• Regulation: 24 CFR 266.200(c)(2).

Project/Activity: The Waiver of 24 CFR 266.200(c)(2), Existing Project “Equity Take-out”, that the refinancing of HFA refinance loan is permissible if the preservation is the result, with certain conditions: (1) Occupancy at least 93 percent for previous 12 months; (2) underwrite to the lower of Section 8 or market rents; (3) no equity take-outs: Risk sharing loan cannot exceed sum of existing indebtedness, cost of repairs, and transaction costs; (4) no defaults in the last 12 months of HFA loans. This waiver's Massachusetts Housing Partnership (MHP) in Boston, Massachusetts, no project name, or number listed.

Nature of Requirement: The Waiver of 24 CFR 266.200(c)(2), Existing Projects “Equity Take-outs”. The waiver of 24 CFR 266.200(c)(2) would permit equity take-outs for any existing property, including both MHP-financed developments and those outside of MHP's portfolio, to be refinanced by MHP, where MHP and HUD split the risk of loss 50/50.

In order to mitigate risk to FHA, ensure affordability of projects, loans to be refinanced cannot have been in default in the 12 months prior to the date of application for refinancing, the owner must agree to renew the HAP contract for a 20-year term, if applicable, existing and post-refinance HAP residual receipts must be set aside to be used to reduce future HAP payments, the property must be maintained as affordable housing for a period of at least 20 year, regardless of whether the loan is prepaid, and a capital needs assessment must be performed and funds escrowed for all necessary repairs and replacement reserves funded for future capital repairs.

Granted by: Len Wolfson, Acting Assistant Secretary for Housing—Federal Housing Commissioner.

Date Granted: June 30. 2020.

Reason Waived: The approval of MHP's underwriting guidelines as indicted in Appendix B—Multifamily Loan Underwriting Standards and Reference Manual revised on November 2018. MHP will meet massive affordable housing needs in post MHP requests a waiver of two existing risk sharing requirements to meet agency's massive affordable housing needs in a post 1⁴1⁴B environment. The Department is approving your request forty-eight (48) insured under the 542(c) HFA Risk Sharing Program expiring on December 31, 2023.

Contact: Patricia M. Burke, Director, Office of Multifamily Production, HTD, Office of Housing, Department of Housing and Urban Development, 451 Seventh Street SW, Room 6132, Washington, DC 20410, telephone (202) 402-5693.

• Regulation: 24CFR 266.200(d).

Project/Activity: The waiver of 24 CFR 266.200(d), for projects receiving Section 8 rental subsidies or other rental subsidies. For refinancing of Section 202 projects, and for Public Housing Authority (PHA) projects converting to Section 8 through the Rental Assistance Demonstration (RAD) Initiative, Boston, Massachusetts. No project number or name listed.

Nature of Requirement: The waiver of 24 CFR 266.200(d), for projects receiving Section 8 rental subsidies or other rental subsidies. The Department would permit Massachusetts Housing Partnership (MHP) to underwrite Section 202 projects and PHA projects converting to Section 8 through RAD using the current or to-be-adjusted project-based Section 8 rents, even though they exceed the market rates, consistent with HUD Housing Notice 04-21. “Amendments to Notice 02-16: Underwriting Guidelines for Refinancing of Section 202, and Section 202/8 Direct Loan Repayments”, which grants authority only to those lenders refinancing with mortgage programs under the National Housing Act.

Granted By: Len Wolfson, Acting Assistant Secretary for Housing—Federal Housing Commissioner.

Date Granted: June 30, 2020.

Reason Waived: The waiver would allow Supportive Housing program projects of MHP's assuming at least 50 percent of the risk of loss on mortgages insured under Section 542(c) would be subject to the same underwriting standard as other Section 202 projects in that the loans may be underwritten to contract rents. This waiver better aligns requirements between HUD programs, thereby streamlining and facilitating program administration by HFAs. Waiver will create and preserve affordable housing in the State of Massachusetts. The waiver is limited to forty-eight (48) projects and expires on December 31, 2023.

Contact: Patricia M. Burke, Director, Office of Multifamily Production, HTD, Office of Housing, Department of Housing and Urban Development, 451 Seventh Street SW, Room 6132, Washington, DC 20410, telephone (202) 402-5693.

• Regulation: 24 CFR 266.410(e).

Project/Activity: District of Columbia Housing Agency (DCHFA), Washington, DC, no project name or number listed.

Nature of Requirement: The 24 CFR 266.410(e), which requires mortgages insured under the 542(c) Housing Finance Agency Risk Sharing Program to be fully amortized over the term of the mortgage. The waiver would permit DCHFA to use balloon loans that would have a minimum term of 17 years and a maximum amortization period of 40 years for the projects identified in the “Multifamily Pipeline Projects”.

Granted by: Len Wolfson, Acting Assistant Secretary for Housing-Federal Housing Commissioner.

Date Granted: June 22, 2020.

Reason Waived: The waiver was granted to allow DCHFA's clients additional financing options to their customers and to align DCHFA business practices with industry standards, thus furthering the creation of a preservation of affordable housing throughout Washington, DC. The regulatory waiver is subject to the following conditions:

1. This waiver is limited to the projects listed in DCHFA's “Multifamily Pipeline Projects” and expires on December 31, 2022.

2. DCHFA must elect to take 50 percent or more of the risk of loss on all transactions.

3. Mortgages made under this waiver may have amortization periods of up to 40 years, but with a minimum term of 17 years.

4. All other requirements of 24 CFR 266.410—Mortgage Provision remain applicable. The waiver is applicable only to loans made under DCHFA's Risk Sharing Agreement.

5. In accordance with 24 CFR 266.200(d), the mortgage may not exceed an amount supportable by the lower of the Section 8 or comparable unassisted rents.

6. Projects must comply with Davis-Bacon labor standards in accordance with 24 CFR 266.225.

7. DCHFA must comply with regulations stated in 24 CFR 266.210 for insured advances or insurance upon completion transactions.

8. A 20-year affordable housing deed restriction placed on title that conforms to the Section 542(c) statutory definition.

9. Occupancy is no less than 93 percent for previous 12 months.

10. No defaults in the last 12 months of the HFA loan to be refinanced.

11. A Property Capital Needs Assessment (PCNA) must be performed and funds escrowed for all necessary repairs, and reserves funded for future capital needs; and

12. For projects subsidized by Section 8 Housing Assistance Payment (HAP) contracts:

i. a: Owner agrees to renew HAP contract(s) for 20-year term, (subject to appropriations and statutory authorization, etc.), and b: In accordance with regulations in 24 CFR 883.306(e), and Housing Notice 2012-14—Use of “New Regulation” Section 8 Housing Assistance Payments (HAP) Contracts Residual Receipts of Offset Project-Based Section 8 Housing Assistance Payments, if at any time DCHFA determines that a project's excess funds (surplus cash) after project operations, reserve requirements and permitted distributions are met, DCHFA must place the excess funds into a separate interest-bearing account. Upon renewal of a HAP Contract the excess funds can be used to reduce future HAP payments or other project operations/purposes. When the HAP Contract expires, is terminated, or any extensions are terminated, any unused funds remaining in the Residual Receipt Account at the time of the contract's termination must be returned.

Contact: Patricia M. Burke, Director, Office of Multifamily Production, HTD, Office of Housing, Department of Housing and Urban Development, 451 Seventh Street SW, Room 6132, Washington, DC 20410, telephone (202) 402-5693.

• Regulation: 24 CFR 266.410(e).

Project/Activity: California Housing Finance Agency (CalHFA) no project name or number.

Nature of Requirement: The 24 CFR 266.410(e), which requires mortgages insured under the 542(c) Housing Finance Agency Risk Sharing Program to be fully amortized over the term of the mortgage. The waiver would permit CalHFA to use balloon loans that would have a minimum term of 17 years and a maximum amortization period of 40 years for the projects identified in the “Multifamily Pipeline Projects”. CalHFA had previously been granted a waiver of 24 CFR 266.410(e) on May 25, 2018 which expired on December 31, 2019. This was the second waiver granted to CalHFA related to 24 CFR 266.410(e). The first waiver was approved on July 1, 2014 with an expiration date of June 30, 2016. Granted by: Len Wolfson, Acting, Assistant Secretary for Housing—Federal Housing Commissioner.

Date Granted: June 8, 2020.

Reason Waived: The waiver was granted to allow CalHFA's clients additional financing options to their customers and to align CalHFA business practices with industry standards. This waiver is effective through December 31, 2022. The regulatory waiver is subject to the following conditions: This waiver expires on December 31, 2022. All other requirements of 24 CFR 266.410—Mortgage Provision remain applicable. The waiver is applicable only to loans made under CalHFA's Risk Sharing Agreement.

The regulatory waiver is subject to the following conditions:

1. This waiver is limited to the projects listed in CalHFA's “Multifamily Pipeline Projects” and expires on December 31, 2022.

2. CalHFA must elect to take 50 percent or more of the risk of loss on all transactions.

3. Mortgages made under this waiver may have amortization periods of up to 40 years, but with a minimum term of 17 years.

4. All other requirements of 24 CFR 266.410—Mortgage Provision remain applicable. The waiver is applicable only to loans made under CalHFA's Risk Sharing Agreement.

5. In accordance with 24 CFR 266.200(d), the mortgage may not exceed an amount supportable by the lower of the Section 8 or comparable unassisted rents.

6. Projects must comply with Davis-Bacon labor standards in accordance with 24 CFR 266.225.

7. CalHFA must comply with regulations stated in 24 CFR 266.210 for insured advances or insurance upon completion transactions.

8. A 20-year affordable housing deed restriction placed on title that conforms to the Section 542(c) statutory definition.

9. Occupancy is no less than 93 percent for previous 12 months.

10. No defaults in the last 12 months of the HFA loan to be refinanced.

11. A Property Capital Needs Assessment (PCNA) must be performed and funds escrowed for all necessary repairs, and reserves funded for future capital needs; and

12. For projects subsidized by Section 8 Housing Assistance Payment (HAP) contracts:

i. a: Owner agrees to renew HAP contract(s) for 20-year term, (subject to appropriations and statutory authorization, etc.), and b: In accordance with regulations in 24 CFR 883.306(e), and Housing Notice 2012-14—Use of “New Regulation” Section 8 Housing Assistance Payments (HAP) Contracts Residual Receipts of Offset Project-Based Section 8 Housing Assistance Payments, if at any time CalHFA determines that a project's excess funds (surplus cash) after project operations, reserve requirements and permitted distributions are met, CalHFA must place the excess funds into a separate interest-bearing account. Upon renewal of a HAP Contract the excess funds can be used to reduce future HAP payments or other project operations/purposes. When the HAP Contract expires, is terminated, or any extensions are terminated, any unused funds remaining in the Residual Receipt Account at the time of the contract's termination must be returned.

Contact: Patricia M. Burke, Director, Office of Multifamily Production, HTD, Office of Housing, Department of Housing and Urban Development, 451 Seventh Street SW, Room 6132, Washington, DC 20410, telephone (202) 402-5693.

• Regulation: 24 CFR 266.410(e).

Project/Activity: Massachusetts Housing Partnership (MHP), no project name or number listed.

Nature of Requirement: The 24 CFR 266.410(e), which requires mortgages insured under the 542(c) Housing Finance Agency Risk Sharing Program to be fully amortized over the term of the mortgage. The waiver would permit MHP to use balloon loans that would have a minimum term of 17 years and a maximum amortization period of 40 years for the projects identified in the “Multifamily Pipeline Projects”. MHP had previously been granted a waiver of 24 CFR 266.410(e) on May 25, 2018 which expired on December 31, 2019. This was the second waiver granted to MHP related to 24 CFR 266.410(e). The first waiver was approved on July 1, 2014 with an expiration date of June 30, 2016. Granted by: Len Wolfson, Acting, Assistant Secretary for Housing-Federal Housing Commissioner.

Date Granted: June 30, 2020.

Reason Waived: The waiver was granted to allow MHP 's clients additional financing options to their customers and to align MHP business practices with industry standards. This waiver is effective through December 31, 2023. The regulatory waiver is subject to the following conditions: This waiver expires on December 31, 2023. All other requirements of 24 CFR 266.410—Mortgage Provision remain applicable. The waiver is applicable only to loans made under MHP's Risk Sharing Agreement.

The regulatory waiver is subject to the following conditions:

1. This waiver is limited to the projects listed in MHP's “Multifamily Pipeline Projects” and expires on December 31, 2023.

2. MHP must elect to take 50 percent or more of the risk of loss on all transactions.

3. Mortgages made under this waiver may have amortization periods of up to 40 years, but with a minimum term of 17 years.

4. All other requirements of 24 CFR 266.410—Mortgage Provision remain applicable. The waiver is applicable only to loans made under MHP's Risk Sharing Agreement.

5. In accordance with 24 CFR 266.200(d), the mortgage may not exceed an amount supportable by the lower of the Section 8 or comparable unassisted rents.

6. Projects must comply with Davis-Bacon labor standards in accordance with 24 CFR 266.225.

7. MHP must comply with regulations stated in 24 CFR 266.210 for insured advances or insurance upon completion transactions.

8. A 20-year affordable housing deed restriction placed on title that conforms to the Section 542(c) statutory definition.

9. Occupancy is no less than 93 percent for previous 12 months.

10. No defaults in the last 12 months of the HFA loan to be refinanced.

11. A Property Capital Needs Assessment (PCNA) must be performed and funds escrowed for all necessary repairs, and reserves funded for future capital needs; and

12. For projects subsidized by Section 8 Housing Assistance Payment (HAP) contracts:

ii. a: Owner agrees to renew HAP contract(s) for 20-year term, (subject to appropriations and statutory authorization, etc.), and b: In accordance with regulations in 24 CFR 883.306(e), and Housing Notice 2012-14—Use of “New Regulation” Section 8 Housing Assistance Payments (HAP) Contracts Residual Receipts of Offset Project-Based Section 8 Housing Assistance Payments, if at any time MHP determines that a project's excess funds (surplus cash) after project operations, reserve requirements and permitted distributions are met, MHP must place the excess funds into a separate interest-bearing account. Upon renewal of a HAP Contract the excess funds can be used to reduce future HAP payments or other project operations/purposes. When the HAP Contract expires, is terminated, or any extensions are terminated, any unused funds remaining in the Residual Receipt Account at the time of the contract's termination must be returned.

Contact: Patricia M. Burke, Director, Office of Multifamily Production, HTD, Office of Housing, Department of Housing and Urban Development, 451 Seventh Street SW, Room 6132, Washington, DC 20410, telephone (202) 402-5693.

• Regulation: 24 CFR 3282.14(b).

Project/Activity: Manufactured housing regulatory oversight.

Nature of Requirement: This regulation requires manufacturers of manufactured homes to submit a request for Alternative Construction consideration.

Granted By: Brian D. Montgomery, Assistant Secretary for Housing—Federal Housing Commissioner.

Date Granted: April 16, 2020.

Reason Waived: Supply chain disruption of conforming windows was impacted due to COVID-19 pandemic. The waiver allows HUD to allow any manufacturer to use an Alternative Construction letter without having supplied a request in advance.

Contact: Jason McJury, Deputy Administrator, Office of Manufactured Housing Programs, Office of Housing, Department of Housing and Urban Development, 451 Seventh Street SW, Room 9170, Washington, DC 20410, telephone (202) 402-2480.

• Regulation: 24 CFR 3286.211(a).

Project/Activity: Manufactured Housing Regulatory Oversight.

Nature of Requirement: This regulation requires each installation license issued or renewed by HUD to expire 3 years after the date of its issuance or renewal.

Granted By: Brian D. Montgomery, Assistant Secretary for Housing—Federal Housing Commissioner.

Date Granted: May 29, 2020.

Reason Waived: Due to impacts from COVID-19 manufactured home installers have been unable to complete continuing education requirements and needed extensions to avoid lapses in licensing that would negatively impact housing installations across the country.

Contact: Angelo Wallace, Civil Engineer, Office of Manufactured Housing Programs, Office of Housing, Department of Housing and Urban Development, 451 Seventh Street SW, Room 9170, Washington, DC 20410, telephone (202) 402-3848.

[FR Doc. 2020-25476 Filed 11-18-20; 8:45 am]

BILLING CODE 4210-67-P